DEPARTMENT OF HOMELAND SECURITY

[Docket No. DHS-2015-0017]

Information Sharing and Analysis Organization Executive Order 13691

AGENCY: Department of Homeland Security.

ACTION: Notice of public meeting.

SUMMARY: This Notice announces a public meeting on May 18 and May 19, 2016 in Anaheim, California to discuss and debate Voluntary Standards for Information Sharing and Analysis Organizations (ISAOs) as they relate to E.O. 13691.

DATES: The meeting for working groups and their leads will be held May 18, 2016 from 7:00 a.m. to 5:00 p.m. Pacific. The meeting for the general public will be held May 19, 2016 from 7:00 a.m. to 5:00 p.m. Pacific. The meetings may conclude before the allotted time if all matters for discussion have been addressed.

ADDRESSES: The meeting location is Anaheim, California at the Hilton Anaheim—777 W Convention Way, Anaheim, CA 92802. Participants are encouraged to contact ISAO@lmi.org for information on travel and logistics.

FOR FURTHER INFORMATION CONTACT: If you have questions concerning the meeting, please contact the ISAO Standards Organization at ISAO@lmi.org.

SUPPLEMENTARY INFORMATION:

Background and Purpose

On February 13, 2015, President Obama signed E.O. 13691 intended to enable and facilitate “private companies, nonprofit organizations, and executive departments and agencies . . . to share information related to cybersecurity risks and incidents and collaborate to respond in as close to real time as possible.”

In accordance with E.O. 13691, DHS has entered into a cooperative agreement with a non-governmental ISAO Standards Organization led by the University of Texas at San Antonio with support from the Logistics Management Institute (LMI) and the Retail Cyber Intelligence Sharing Center (R-CISC). The ISAO Standards Organization is to work with existing information sharing organizations, owners and operators of critical infrastructure, relevant agencies, and other public and private sector stakeholders to identify a common set of voluntary standards or guidelines for the creation and functioning of ISAOs.

The May meeting in Anaheim California is part of this collaborative effort. This meeting is another in a series of workshops to assure transparency in the standards development process. Previous in-person workshops were held by DHS on June 9, 2015 at the Volpe Center in Cambridge, MA, and on July 30, 2015 at San Jose State University in San Jose, CA; and by the ISAO Standards Organization on November 9, 2015 at the LMI Headquarters in Tysons, VA, and February 9, 2016 at the University of Texas at San Antonio in San Antonio, TX.

Meeting Details

The Information Sharing and Analysis Organization (ISAO) Standards Organization is working with its six Standards Working Groups (SWGs) to develop documents to address the creation and functioning of ISAOs. The initial set of draft documents will focus on the needs of those seeking to join or form an ISAO and should be released for public comment by early May. The initial set of voluntary standards should be released for comment in June 2016.

Specific questions to be addressed include:

• What needs to be considered by a newly-forming ISAO and what are the first steps?

• What capabilities might an ISAO provide?

• What types of information will be shared and what are some mechanisms for doing so?

• What security and privacy is needed for a newly-forming ISAO?

• What mentoring support is available for newly-forming ISAOs?

• What government programs and services are available to assist ISAOs?

• What concerns do regulators and law enforcement have about the new ISAO construct?

During the May 19th public meeting in Anaheim, California, the Standards Organization will encourage public discussion and debate of the ISAO Working Groups initial draft documents. Additionally, the Standards Organization seeks input on proposed voluntary standards. All input and comments received in this forum will be evaluated by the ISAO Standards Organization and working groups as the initial set of documents are finalized for publication by September. The minutes from this meeting will be made available to the public at www.isao.org.

Submitting Written Comments

You may submit written comments to the docket using one of the following methods:

(1) Federal eRulemaking Portal: http://www.regulations.gov. Although this is not a rulemaking action, comments are being submitted to the Federal eRulemaking Portal in an effort to provide transparency to the general public.

(2) Email: ISAO@lmi.org. Include the docket number in the subject line of the message.

(3) Mail: ISAO Standards Organization, c/o LMI, 1777 NE Loop 410, Suite 808, San Antonio, TX 78217-5217.

To avoid duplication, please use only one of these three methods. All comments must either be submitted to the online docket on or before November 4, 2015, or reach the Docket Management Facility by that date.

References

Executive Order 13691 can be found at: https://www.whitehouse.gov/the-press-office/2015/02/13/executive-order-promoting-private-sector-cybersecurity-information-shari.

For additional information about the ISAO Standards Organization, draft products, and the May public meeting (including a link to reduced rate hotel rooms), please go to www.ISAO.org.

Authority: 6 U.S.C. 131-134; 6 CFR. 29; E.O. 13691.

Dated: April 15, 2016.
Andy Ozment,
Assistant Secretary, Cybersecurity and Communications, National Protection and Programs Directorate, Department of Homeland Security.

[FR Doc. 2016-09187 Filed 4-20-16; 8:45 am]

BILLING CODE 9110-9P-P